DEPARTMENT OF HOMELAND SECURITY

Federal Emergency Management Agency

[Docket ID: FEMA-2013-0021; OMB No. 1660-0115]

Agency Information Collection Activities: Submission for OMB Review; Comment Request

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before September 18, 2013.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: Environmental and Historic Preservation Screening Form.

OMB Number: 1660-0115.

Type of information collection: Revision of a currently approved information collection.

Form Titles and Numbers: FEMA Form 024-0-1, Environmental and Historic Preservation Screening Form.

Abstract: NEPA requires that each Federal agency to examine the impact of its actions (including the actions of grantees using grant funds) on the human environment, to look at potential alternatives to that action, and to inform both decision-makers and the public of those impacts through a transparent process. This Screening Form will facilitate FEMA's review of grantees actions in FEMA's effort to comply with the environmental requirements.

Affected Public: State, Local or Tribal Government; Not-for-Profit Institutions.

Estimated Number of Respondents: 3,000.

Estimated Total Annual Burden Hours: 24,000 hours.

Estimated Cost: The estimated annual cost to respondents for the hour burden is $1,010,400.00. There are no annual costs to respondents operations and maintenance costs for technical services. There is no annual start-up or capital costs. The cost to the Federal Government is $5,394,630.00.

Dated: August 12, 2013.
Loretta Cassatt,
Chief, Records Branch, Records Management Division, Mission Support Bureau, Federal Emergency Management Agency, Department of Homeland Security.

[FR Doc. 2013-20081 Filed 8-16-13; 8:45 am]

BILLING CODE 9111-19-P